DEPARTMENT OF ENERGY

Agency Information Collection Extension

AGENCY: U.S. Department of Energy.

ACTION: Notice and request for comments.

SUMMARY: The Department of Energy (DOE), pursuant to the Paperwork Reduction Act of 1995, intends to extend for three years, an information collection request with the Office of Management and Budget (OMB). Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology. This information collection request pertains to the Human Reliability Program (HRP). This information collection request consists of forms that will certify to DOE that respondents were advised of the requirements for occupying or continuing to occupy a HRP position. The forms include: Human Reliability Program Certification (DOE F 470.3), Acknowledgement and Agreement to Participate in the Human Reliability Program (DOE F 470.4), Authorization and Consent to Release Human Reliability Program (HRP) Records in Connection with HRP (DOE F 470.5), Refusal of Consent (DOE F 470.6), and Human Reliability Program (HRP) Alcohol Testing Form (DOE F 470.7). The HRP is a security and safety reliability program for individuals who apply for or occupy certain positions that are critical to the national security. It requires an initial and annual supervisory review, medical assessment, management evaluation, and a DOE personnel security review of all applicants or incumbents. It is also used to ensure that employees assigned to nuclear explosive duties do not have emotional, mental, or physical conditions that could result in an accidental or unauthorized detonation of nuclear explosives.

DATES: Comments regarding this proposed information collection must be received on or before February 4, 2013. If you anticipate difficulty in submitting comments within that period, contact the person listed below as soon as possible.

ADDRESSES: Written comments may be sent to Regina Cano, U.S. Department of Energy, Office of Health, Safety and Security (HS-50), 1000 Independence Ave. SW., Washington, DC 20585, telephone at (301) 903-3473, by fax at (301) 903-6961, or by email at regina.cano@hq.doe.gov.

FOR FURTHER INFORMATION CONTACT: Requests for additional information or copies of the information collection instrument and instructions should be directed to Regina Cano, U.S. Department of Energy, Office of Health, Safety and Security, HS-50, 1000 Independence Ave. SW., Washington, DC 20585, telephone at (301) 903-3473, by fax at (301) 903-6961, or by email at regina.cano@hq.doe.gov. Information about the collection instrument may be obtained at: http://www.hss.doe.gov/pra.html.

SUPPLEMENTARY INFORMATION: This information collection request contains: (1) OMB No. 1910-5122; (2) Information Collection Request Title: Human Reliability Program; (3) Type of Review: renewal; (4) Purpose: This collection provides for DOE management to ensure that individuals who occupy HRP positions meet program standards of reliability and physical and mental suitability; (5) Annual Estimated Number of Respondents: 43,960; (6) Annual Estimated Number of Total Responses: 43,999; (7) Annual Estimated Number of Burden Hours: 3,873; (8) Annual Estimated Reporting and Recordkeeping Cost Burden; $349,002 (9) Response Obligation: Mandatory.

Statutory Authority: 42 U.S.C. 2165; 42 U.S.C. 2201; 42 U.S.C. 5814-5815; 42 U.S.C. 7101 et seq. ; 50 U.S.C. 2401 et seq. ; E.O. 10450, 3 CFR 1949-1953 Comp., p. 936, as amended; E.O. 10865, 3 CFR 1959-1963 Comp., p. 398, as amended; 3 CFR Chap. IV.

Issued in Washington, DC, on November 21, 2012.
Stephen A. Kirchhoff,
Director, Office of Resource Management, Office of Health, Safety and Security.

[FR Doc. 2012-29235 Filed 12-3-12; 8:45 am]

BILLING CODE 6450-01-P